FEDERAL MARITIME COMMISSION

Privacy Act of 1974; Notice of Adoption of Altered and New Systems of Records

December 22, 2008.

Pursuant to the Privacy Act of 1974, 5 U.S.C. 552a, the Federal Maritime Commission published two documents in the Federal Register on July 2, 2008. The first was a Notice of Republication and Altered Systems of Records (73 FR 37959) which proposed amendments to the various existing Systems of Records (SOR) of the Federal Maritime Commission and republished the complete SOR including the proposed amendments. The second was a Notice of Proposed New Systems of Records (73 FR 37956) which proposed the establishment of five additional systems to the Commission's SOR.

Interested parties were afforded the opportunity to submit comments with respect to these notices. No comments were received by the Commission.

Pursuant to the Privacy Act of 1974, 5 U.S.C. 552a, the Federal Maritime Commission has adopted the proposed amendments to its SOR as well as the five additional systems to its SOR without change, effective August 11, 2008.

By the Commission.
Karen V. Gregory,
Secretary.

[FR Doc. E8-30792 Filed 12-24-08; 8:45 am]

BILLING CODE 6730-01-P